NATIONAL AERONAUTICS AND SPACE ADMINISTRATION

[Notice: (13-122)]

NASA Advisory Council; Science Committee; Planetary Science Subcommittee; Meeting

AGENCY: National Aeronautics and Space Administration.

ACTION: Notice of meeting.

SUMMARY: In accordance with the Federal Advisory Committee Act, Public Law 92-463, as amended, the National Aeronautics and Space Administration (NASA) announces a meeting of the Planetary Science Subcommittee of the NASA Advisory Council (NAC). This Subcommittee reports to the Science Committee of the NAC. The meeting will be held via Teleconference and Webex for the purpose of soliciting, from the scientific community and other persons, scientific and technical information relevant to program planning.

DATES: Tuesday, November 5, 2013, 11:00 a.m. to 3:00 p.m., Eastern Time.

This meeting will take place telephonically and by WebEx. Any interested person may call the USA toll free conference call number 800-857-7040, pass code PSS, to participate in this meeting by telephone. The WebEx link is https://nasa.webex.com/, meeting number 992 145 430, password is PSS@Nov5

FOR FURTHER INFORMATION CONTACT: Ms. Ann Delo, Science Mission Directorate, NASA Headquarters, Washington, DC 20546, (202) 358-0750, fax (202) 358-3092, or ann.b.delo@nasa.gov.

SUPPLEMENTARY INFORMATION: The agenda for the meeting includes the following topics:

—Planetary Science Division Update

—Government Performance and Results Act Presentation and Scoring

It is imperative that the meeting be held on these dates to accommodate the scheduling priorities of the key participants.

Note: In accordance with Section 102-3.150(b) of the GSA Federal Advisory Committee Management; Final Rule (41 CFR parts 101-6 and 102-3), this meeting is being announced with less than 15 day notification due to the recent Federal Government shutdown which forced NASA to cancel a previously scheduled meeting of the Planetary Science Subcommittee where a time-critical, mandatory review and scoring of agency annual performance goals, required by the Government Performance and Results Modernization Act of 2010, was to take place. Due to the length of the shutdown a teleconference will be used to complete this action prior to the Office of Management and Budget imminent deadline. Because a quorum of the Planetary Science Subcommittee is required for this action, November 5, 2013, is the only available date for this telecon.

Patricia D. Rausch,
Advisory Committee Management Officer, National Aeronautics and Space Administration.

[FR Doc. 2013-25179 Filed 10-24-13; 8:45 am]

BILLING CODE 7510-13-P